DEPARTMENT OF HOMELAND SECURITY

8 CFR Parts 103 and 214

[CIS No. 2424-07; DHS Docket No. USCIS-2007-0052]

RIN 1615-AB63

New Classification for Victims of Criminal Activity; Eligibility for “U” Nonimmigrant Status; Correction

AGENCY: U.S. Citizenship and Immigration Services, DHS.

ACTION: Interim rule; correction.

SUMMARY: This document contains corrections to the interim rule published in the Federal Register on September 17, 2007. The rule established the requirements and procedures for aliens seeking U nonimmigrant status. A review of the interim rule after publication identified erroneous references to filing fees for Form I-918, “Petition for U Nonimmigrant Status,” and Form I-918, Supplement A.

DATES: Effective Date: October 17, 2007.

FOR FURTHER INFORMATION CONTACT: Laura Dawkins, U.S. Citizenship and Immigration Services, Department of Homeland Security, 20 Massachusetts Avenue, NW., Room 2304, Washington, DC 20529, telephone: (202) 272-8350.

SUPPLEMENTARY INFORMATION:

Need for Correction

On September 17, 2007, U.S. Citizenship and Immigration Services (USCIS) published an interim rule at 72 FR 53014 establishing the requirements and procedures for aliens seeking U nonimmigrant status. The SUMMARY and SUPPLEMENTARY INFORMATION sections of the interim rule made contradictory statements regarding whether there is a filing fee for Form I-918, “Petition for U Nonimmigrant Status,” and Form I-918, Supplement A. The regulation text itself contained an amendment to 8 CFR 103.7(b)(1) and language in new 8 CFR 214.14(c) reflecting that USCIS would charge a filing fee for Form I-918 and Form I-918, Supplement A. As correctly stated in the Supplementary Information (page 53031, third column, paragraph D.), USCIS will charge no fee for Forms I-918 and I-918, Supplement A, but will charge the established fee for biometric services for each person ages 14 through 79 inclusive with each U nonimmigrant status petition.

Correction of Publication

Accordingly, the publication on September 17, 2007 (72 FR 53014) of the interim rule that was the subject of FR Doc. E7-17807 is corrected as follows:

PART 103—POWERS AND DUTIES; AVAILABILITY OF RECORDS

§ 103.7 [Corrected]

1. On page 53035, in the first column, remove the part heading “PART 103—POWERS AND DUTIES; AVAILABILITY OF RECORDS”.

2. On page 53035, in the first column, remove the regulatory changes to part 103, by removing amendments 1 and 2.

PART 214—NONIMMIGRANT CLASSES

§ 214.14 [Corrected]

3. On page 53037, in the second column, in paragraph (c)(1) introductory text, in the eighth line, the phrase “applicable fees” should read “applicable biometric fee”.

Dated: September 24, 2007.
Richard Sloan,
Chief, Regulatory Management Division, Office of the Executive Secretariat, U.S. Citizenship and Immigration Services.

[FR Doc. E7-19085 Filed 9-26-07; 8:45 am]

BILLING CODE 4410-10-P